DEPARTMENT OF COMMERCE

International Trade Administration

[A-821-808, A-823-808]

Continuation of Suspended Antidumping Duty Investigations on Certain Cut-to-Length Carbon Steel Plate From the Russian Federation and Ukraine

AGENCY: Enforcement and Compliance, International Trade Administration, Department of Commerce.

SUMMARY: As a result of the respective determinations by the Department of Commerce (Commerce) and the International Trade Commission (ITC) that the termination of the suspension agreements and the underlying antidumping duty investigations on certain cut-to-length carbon steel plate (CTL plate) from the Russian Federation (Russia) and Ukraine (collectively, Suspension Agreements), would likely lead to continuation or recurrence of dumping and material injury to an industry in the United States, Commerce is publishing this notice of continuation of the Suspension Agreements on CTL plate from Russia and Ukraine.

DATES: Applicable July 1, 2021.

FOR FURTHER INFORMATION CONTACT: Sally C. Gannon or Rebecca Lee, Enforcement and Compliance, International Trade Administration, U.S. Department of Commerce, 1401 Constitution Avenue NW, Washington, DC 20230, telephone: (202) 482-0162 or (202) 482-6188, respectively.

SUPPLEMENTARY INFORMATION:

Background

Commerce initiated, and the ITC instituted, sunset reviews of the suspended antidumping duty investigations of certain CTL plate from Russia and Ukraine, pursuant to section 751(c) of the Tariff Act of 1930, as amended (the Act).¹ Pursuant to sections 751(c) and 752 of the Act, Commerce determined that termination of the Suspension Agreements on CTL plate from Russia and Ukraine would likely lead to a continuation or recurrence of dumping and notified the ITC of the magnitude of the margins likely to prevail, should the Suspension Agreements be terminated.²

¹ See Initiation of Five-Year (Sunset) Reviews, 85 FR 69585 (November 3, 2020); and Cut-to-Length Carbon Steel Plate from China, Russia, and Ukraine; Institution of Five-Year Reviews, 85 FR 69362 (November 2, 2020).

² See Certain Cut-to-Length Carbon Steel Plate from the Russian Federation and Ukraine; Final Results of the Expedited Fourth Sunset Reviews of the Suspension Agreements, 86 FR 13297 (March 8, 2021).

On June 25, 2021, pursuant to section 751(c) of the Act, the ITC determined that termination of the Suspension Agreements on CTL plate from Russia and Ukraine would be likely to lead to continuation or recurrence of material injury to an industry in the United States within a reasonably foreseeable time.³

³ See Cut-to-Length Carbon Steel Plate from China, Russia, and Ukraine, 86 FR 33738 (June 25, 2021).

Therefore, pursuant to section 351.218(f)(4) of Commerce's regulations, Commerce is publishing this notice of the continuation of the Suspension Agreements on CTL plate from Russia and Ukraine.

Scope

The products covered by these Suspension Agreements include hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in the Suspension Agreements are flat-rolled products of nonrectangular cross-section where such cross-section is achieved subsequent to the rolling process (i.e., products which have been “worked after rolling”) for example, products which have been beveled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTS subheadings are provided for convenience and customs purposes, our written description of the scope of the Suspension Agreements is dispositive. Specifically excluded from the subject merchandise within the scope of these Suspension Agreements is grade X-70 plate.

Continuation

As a result of the respective determinations by Commerce and the ITC that termination of the Suspension Agreements on CTL plate from Russia and Ukraine would likely lead to continuation or recurrence of dumping and material injury to an industry in the United States, pursuant to section 751(d)(2) of the Act, Commerce hereby gives notice of the continuation of the Suspension Agreements on CTL plate from Russia and Ukraine. The effective dates of continuation will be the date of publication in the Federal Register of this Continuation Notice. Pursuant to section 751(c)(2) of the Act and 19 CFR 351.218(c)(2), Commerce intends to initiate the next five-year reviews of the Suspension Agreements not later than 30 days prior to the fifth anniversary of the effective date of continuation.

These five-year (sunset) reviews and notice are in accordance with section 751(c) of the Act and published pursuant to section 777(i)(1) of the Act and 19 CFR 351.218(f)(4).

Dated: June 25, 2021.
Ryan Majerus,
Deputy Assistant Secretary for Policy and Negotiations.

[FR Doc. 2021-14061 Filed 6-30-21; 8:45 am]

BILLING CODE 3510-DS-P